DEPARTMENT OF THE INTERIOR

Fish and Wildlife Service

[FWS-R6-R-2014-N183; FXRS12610600000-145-FF06R06000]

National Bison Range Complex, Moiese, MT; Environmental Assessment for the Proposed Annual Funding Agreement with the Confederated Salish and Kootenai Tribes; Extension of Public Comment Period

AGENCY: Fish and Wildlife Service, Interior.

ACTION: Notice of availability; extension of public comment period.

SUMMARY: We, the U.S. Fish and Wildlife Service (Service), advise the public that we are extending the public review and comment period for the draft environmental assessment for a draft annual funding agreement at the National Bison Range Complex.

DATES: To ensure consideration, please send your written comments by September 18, 2014.

ADDRESSES: Send your comments or requests for more information by any one of the following methods.

Email: bisonrange@fws.gov. Include “NBR AFA” in the subject line.

U.S. Mail: Laura King, Planning Division, National Bison Range Complex, 58355 Bison Range Road, Moiese, MT 59824.

Document Request: A copy of the environmental assessment may be obtained by writing to U.S. Fish and Wildlife Service, Division of Refuge Planning, 134 Union Boulevard, Suite 300, Lakewood, CO 80228; or by download from http://fws.gov/bisonrange.

FOR FURTHER INFORMATION CONTACT: Laura King, by telephone at 406-644-2211, ext. 210, or via email at laura_king@fws.gov (email); or Toni Griffin, by phone at 303-236-4378, or via email at toni_griffin@fws.gov (email).

SUPPLEMENTARY INFORMATION: On August 5, 2014, we published a Federal Register notice (79 FR 45452) announcing the availability of the draft environmental assessment (EA) for a draft annual funding agreement at the National Bison Range Complex for public review and comment, in accordance with National Environmental Policy Act (40 CFR 1506.6(b)) requirements. We also opened a comment period lasting from August 5, 2014, through September 4, 2014. We now extend the public comment period on the draft EA until September 18, 2014, in response to requests we have received from Public Employees for Environmental Responsibility and local residents. For more information on the draft EA and the Bison Range, please see our August 5, 2014, notice.

Public Availability of Comments

Before including your address, phone number, email address, or other personal identifying information in your comment, you should be aware that your entire comment—including your personal identifying information—may be made publicly available at any time. While you may ask us in your comment to withhold your personal identifying information from public review, we cannot guarantee that we will be able to do so.

Authority

The environmental review of this project will be conducted in accordance with the requirements of the National Environmental Policy Act (NEPA) of 1969, as amended (42 U.S.C. 4321 et seq.); NEPA Regulations (40 CFR parts 1500-1508, 43 CFR part 46); other appropriate Federal laws and regulations; Executive Order 12996; the National Wildlife Refuge System Improvement Act of 1997; and Service policies and procedures for compliance with those laws and regulations.

Dated: August 25, 2014.
Matt Hogan,
Acting Regional Director, Mountain Prairie Region, U.S. Fish and Wildlife Service.

[FR Doc. 2014-21014 Filed 9-3-14; 8:45 am]

BILLING CODE 4510-55-P